ENVIRONMENTAL PROTECTION AGENCY

[FRL-9249-9]

Public Water System Supervision Program Revision for the State of New Mexico

AGENCY: United States Environmental Protection Agency (EPA).

ACTION: Notice of tentative approval.

SUMMARY: Notice is hereby given that the State of New Mexico is revising its approved Public Water System Supervision Program. New Mexico has adopted the Ground Water Rule (GWR), the Long Term 2 Enhanced Surface Water Treatment Rule (LT2) and the Stage 2 Disinfection By Products Rule (ST2). The purpose of these rules is to improve control and reduce the risk of microbial pathogens in drinking water and to address risk trade-offs with disinfection byproducts. EPA has determined that the GWR, LT2, and ST2 revisions submitted by New Mexico are no less stringent than the corresponding Federal regulation. Therefore, EPA intends to approve the program revisions.

DATES: All interested parties may request a public hearing. A request for a public hearing must be submitted by February 9, 2011 to the Regional Administrator at the EPA Region 6 address shown below. Frivolous or insubstantial requests for a hearing may be denied by the Regional Administrator. However, if a substantial request for a public hearing is made by February 9, 2011, a public hearing will be held. If no timely and appropriate request for a hearing is received and the Regional Administrator does not elect to hold a hearing on his own motion, this determination shall become final and effective on February 9, 2011. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8 a.m. and 4:30 p.m., Monday through Friday, at the following offices: New Mexico Environment Department, Drinking Water Bureau, 525 Camino De Los Marquez, Suite 4, Santa Fe, New Mexico, 87505 and the United States Environmental Protection Agency, Region 6, Drinking Water Section (6WQ-SD), 1445 Ross Avenue, Suite 1200, Dallas, Texas 75202.

FOR FURTHER INFORMATION CONTACT: Bill Hurlbut or Dzung Kim Ngo Kidd, EPA Region 6, Drinking Water Section at the Dallas address given above or at telephone 214-665-8305/7158 (Hurlbut/Ngo Kidd), or by e-mail (hurlbut.bill@epa.gov, ngo.kim@epa.gov).

Authority: Section 1413 of the Safe Drinking Water Act, as amended (1996), and 40 CFR part 142 of the National Primary Drinking Water Regulations.

Dated: December 22, 2010.
Carl E. Edlund,
Acting Regional Administrator, Region 6.

In accordance with the Safe Drinking Water Act as amended, and 40 CFR 142, the National Primary Drinking Water Regulations Implementation, the State of New Mexico proposes to revise its approved Public Water System Supervision Primacy Program. This is the program which oversees drinking water facilities in New Mexico. Specifically, New Mexico has revised adopted drinking water regulations including the Ground Water Rule (GWR), the Long Term 2 Enhanced Surface Water Treatment Rule (LT2), and the Stage 2 Disinfection By Products Rule (ST2). EPA has determined that these GWR, LT2, and ST2 revisions are no less stringent than the corresponding Federal regulations. Therefore, EPA intends to approve these program revisions.

[FR Doc. 2011-244 Filed 1-7-11; 8:45 am]

BILLING CODE 6560-50-P